DEPARTMENT OF TRANSPORTATION

National Highway Traffic Safety Administration

49 CFR Chapter V

[Docket No. NHTSA-2016-0090], Notice 3

Federal Automated Vehicles Policy

AGENCY: National Highway Traffic Safety Administration (NHTSA), Department of Transportation (DOT).

ACTION: Notice of public meeting.

SUMMARY: NHTSA is announcing a public meeting to seek input specifically on the Model State Policy and Modern Regulatory Tools sections of the recently released Federal Automated Vehicles Policy (the Policy). The Policy is guidance that seeks to speed the delivery of an initial regulatory framework for highly automated vehicles (HAVs) as well as encourage conformance with best practices to guide manufacturers and other entities in the safe design, development, testing, and deployment of HAVs.

The Model State Policy builds on collective knowledge gathered from safety stakeholders, and is intended to help avoid a patchwork of inconsistent laws and regulations. It outlines States' roles in regulating HAVs and lays out model procedures and requirements for use by States that wish to enact laws governing HAVs.

The Modern Regulatory Tools section includes potential new tools and authorities that could help NHTSA overcome the challenges and take advantage of the opportunities involved in the safe and expeditious development of HAVs.

Held in two distinct parts, the public meeting in the morning session will be an open listening session for the Model State Policy. In the afternoon session, there will be moderated panel discussions on the Modern Regulatory Tools. All comments during the public meeting will be oral.

DATES: NHTSA will hold the public meeting on December 12, 2016, in Arlington, VA. The meeting will start at 8:30 a.m. and continue until 5 p.m. local time. Check-in will begin at 8 a.m. Attendees should arrive early enough to be seated by 8:30 a.m.

ADDRESSES: The meeting will be held at the United States Army Conference and Event Center (CEC), located at 2425 Wilson Boulevard, Arlington, VA 22201 (Courthouse Metro Station). This facility is accessible to individuals with disabilities. The meeting will also be webcast live, and a link to the webcast will be available through http://www.nhtsa.gov/nhtsa/av/index.html.

Docket: A docket (NHTSA-2016-0090) was created as an option for members of the public to submit written comments on the Policy. The formal docket comment period closed on November 22, 2016. Additional comments may still be submitted. Comments not received in time to be considered in the next iteration of the document will be considered in a future iteration of it. For access to the docket, go to http://www.regulations.gov at any time or to 1200 New Jersey Avenue SE., West Building, Ground Floor, Room W12-140, Washington, DC 20590, between 9 a.m. and 5 p.m., Monday through Friday, except Federal Holidays. Telephone: 202-366-9826.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), you may visit http://www.dot.gov/privacy.html.

FOR FURTHER INFORMATION CONTACT: If you have questions about the public meeting, please contact Ms. Yvonne Clarke, Program Assistant, Office of Vehicle Safety Research at (202) 366-1845 or by email at av_info_nhtsa@dot.gov.

SUPPLEMENTARY INFORMATION:

Background

On September 20, 2016, DOT released the Federal Automated Vehicles Policy (the Policy). The Policy is intended to ensure automated vehicle technologies are safely introduced and achieve their full safety potential by removing possible roadblocks to the integration of innovative automotive technology. The full Policy can be found at www.nhtsa.gov/AV.

Following publication of the Policy and during the open comment period of the Policy, NHTSA held the first in a series of public meetings on November 10, 2016. The morning session of the meeting focused on all four sections of the Policy: Section I: Vehicle Performance Guidance for Automated Vehicles, Section II: Model State Policy, Section III: NHTSA's Current Regulatory Tools, and Section IV: Modern Regulatory Tools. Comments were presented in an open listening session forum. The afternoon session focused specifically on the Safety Assessment, included under Section I: Vehicle Performance Guidance for Automated Vehicles. NHTSA extended invitations to specific organizations and individuals to ensure a broad perspective regarding submission of a Safety Assessment Letter. The session closed with opening the floor for further comments as desired.

Meeting

NHTSA is seeking input through this series of public meetings to further refine the Policy. The public meeting on December 12, 2016, the second in the series, is being held to provide individuals an opportunity to offer oral feedback regarding the following sections of the Policy: Section II: Model State Policy and Section IV: Modern Regulatory Tools.

During the morning session, the agency will seek input specifically on Section II: Model State Policy. This session will focus on gathering feedback regarding how the States, manufacturers, and other entities have understood and interpreted the Model State Policy. States have already begun passing laws and developing regulations surrounding HAVs. A national dialogue is necessary to gather additional information on any potential challenges foreseen, suggestions for clarification, and recommended improvements to assist in avoiding a patchwork of inconsistent laws and regulations. The session will be an open listening session in which individuals or organizations can register to speak or, if time permits, provide oral comments at the conclusion of the morning session.

During the afternoon session of the meeting, the Agency will seek specific input on Section IV: Modern Regulatory Tools. This section identifies potential new regulatory tools and statutory authorities that may aid the safe and efficient deployment of new lifesaving technologies. This session will focus on gathering feedback on the new tools and authorities discussed in this section, as well as other ideas and suggestions to assist in the safe development, testing, and deployment of HAVs. This session will consist of six moderated panels. Each panel will run approximately 35 minutes and be guided by questions appropriate for the topic at hand. Panels will focus on the following subject areas:

Panel I: Safety Assurance: Tools to demonstrate that entities design, manufacturing, and testing processes apply the NHTSA performance guidance, industry best practices, and other performance criteria and standards to assure the safe operation of motor vehicles, before those vehicles are deployed on public roads.

Panel II: Pre-Market Approval Authority: Pre-market approval is a substantially different regulatory approach than the current self-certification used by NHTSA. The discussion provided in the Policy is a preliminary exploration of issues and not intended as an endorsement.

Panel III: Imminent Hazard Authority: This authority would enable NHTSA to require manufacturers to take immediate action to mitigate safety risks deemed imminent hazards.

Panel IV: Expanded Exemption Authority for HAVs: Expanded exemption authority could change the volume and or time limit of the existing exemption authority to allow for greater flexibility and increase opportunities for data collection, analysis, and planning.

Panel V: Post-Sale Tools To Regulate Software Changes: Post-Sale updates in software could substantially change the functionality and operation that HAVs had when they were certified at the time of their manufacture. Additional tools may be useful in monitoring and regulating such updates.

Panel VI: Tools: The Policy highlights multiple tools that could potentially be used in safe deployment if given authority or clarification: Variable test procedures to ensure behavioral competence and avoid gaming of tests, functional and system safety, regular reviews for making agency testing protocols iterative and forward-looking, additional record keeping/reporting, and enhanced data collection tools.

Registration is necessary for all attendees. Attendees, including those who do not plan to make any oral remarks at the meeting, should register at: https://docs.google.com/forms/d/152ETANkzDa62u2_b5AkuC1Qj00xDMKP292AYZk03R78/edit by December 9, 2016. Please provide your name, email address, and affiliation, indicate if you wish to offer oral technical remarks, and please indicate whether you require accommodations such as a sign language interpreter. Space is limited, so advanced and early registration is highly encouraged.

Although attendees will be given the opportunity to offer technical remarks, there will not be time for attendees to make audio-visual presentations during the meeting. Additionally, NHTSA may not be able to accommodate all attendees who wish to make oral remarks. NHTSA will conduct the public meeting informally, and technical rules of evidence will not apply. We will arrange for a written transcript of the meeting. You may make arrangements for copies of the transcripts directly with the court reporter. The transcript will also be posted in the docket when it becomes available.

Should it be necessary to cancel the meeting due to inclement weather or other emergency, NHTSA will take all available measures to notify registered participants.

Draft Meeting Agenda

8:00-8:30 a.m.—Arrival/Check-In

8:30-8:45 a.m.—Welcome/Important Notices/Format

8:45-9:00 a.m.—NHTSA Leadership Address

9:00-12:00 p.m.—Open Listening Session on Section II: Model State Policy

12:00-1:00 p.m.—Lunch (on your own)/Arrival/Check-In

1:00-1:35 p.m.—Modern Regulatory Tools—Panel I: Safety Assurance

1:35-2:10 p.m.—Modern Regulatory Tools—Panel II: Pre-Market Approval

2:10-2:45 p.m.—Modern Regulatory Tools—Panel III: Imminent Hazard Authority

2:45-3:00 p.m.—Break

3:00-3:35 p.m.—Modern Regulatory Tools—Panel IV: Expanded Exemption Authority

3:35-4:10 p.m.—Modern Regulatory Tools—Panel V: Post Sale Tools to Regulate Software Changes

4:10-4:45 p.m.—Modern Regulatory Tools—Panel VI: Tools

4:45-5:00 p.m.—Closing Remarks/Adjourn

Morning Session Meeting Topic

The morning session of the meeting will be an open listening session and an opportunity for individuals to offer oral remarks on Section II: Model State Policy of the Federal Automated Vehicles Policy (the Policy). This section describes the responsibilities of both the Federal and State governments in regards to the regulation of HAVs and recommends policy areas for States to consider for the validation, testing, and deployment of highly automated vehicles with the goal of generating a consistent national framework.

Specifically, commenters are asked to discuss the following topics at the meeting:

• Content

The agency seeks comment on the content included within the Model State Policy:

Are there any areas within the Model State Policy that need additional clarification?

Are there any gaps that you have identified in the Model State Policy?

What barriers or challenges do you foresee that might hinder the ability for implementation of the guidance?

• The Federal and State Roles

The agency seeks comment on the Federal and State Roles portion of the Model State Policy. Does the Policy clearly identify the appropriate roles and division of regulatory responsibilities for motor vehicle operations between Federal and State authorities?

• Application for Manufacturers or Other Entities To Test HAVs on Public Roadways

The agency seeks comment on the amount and type of information that a jurisdiction would deem appropriate to receive from NHTSA that would identify that each vehicle used for testing by manufacturers or other entities follows the Performance Guidance set forth by NHTSA and meets all applicable Federal Motor Vehicle Safety Standards?

• Liability and Insurance

States are responsible for determining liability rules for HAVs. For example, if a HAV is determined to be at fault in a crash then who should be held liable? For Insurance, States need to determine who (owner, operator, passenger, manufacturer, etc.) must carry motor vehicle insurance. What additional insurance and liability issues have States identified? Would it be desirable for NHTSA to create a commission to study such and make recommendations to the States?

Afternoon Session Meeting Topic

The afternoon session of the meeting provides an opportunity for invited individuals to comment on Section IV: Modern Regulatory Tools. This session will consist of six moderated panels. The panels will run approximately 35 minutes and be guided by questions appropriate for the topics at hand: Panel I: Safety Assurance, Panel II: Pre-Market Approval Authority, Panel III: Imminent Hazard Authority, Panel IV: Expanded Exemption Authority for HAVs, Panel V: Post-Sale Tools To Regulate Software Changes, and Panel VI: Tools. This section identifies potential new regulatory tools and statutory authorities that may aid the safe and efficient deployment of new lifesaving technologies.

Nathaniel Beuse,
Associate Administrator for Vehicle Safety Research.

[FR Doc. 2016-28628 Filed 11-28-16; 8:45 am]

BILLING CODE 4910-59-P